DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before November 23, 2018.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on November 1, 2018.
Donald P. Burger,
Chief, General Approvals and Permits Branch.

Special Permits Data
Application No. | Applicant | Regulation(s) affected | Nature of the special permits thereof
10511-M | SCHLUM-BERGER TECHNOLOGY CORP | 173.304a | To modify the special permit to authorize a new pressure housing for transporting hazmat. (modes 1, 2, 4, 5).
12184-M | WELDSHIP CORPORATION | 173.302a(b)(2), 173.302a(b)(3), 173.302a(b)(4), 173.302a(b)(5), 180.205(c), 180.205(f), 180.205(g), 180.205(i), 180.209(a), 180.209(a), 180.213 | To modify the special permit to remove the edition year of the CGA C-23 pamphlet since a newer edition is now the current reference. (modes 1, 2, 3, 4).
12899-M | CORE LABORATORIES L.P | 173.301(f), 173.302a(a), 173.304a(a), 173.304a(d), 173.201(c), 173.202(c), 173.203(c), 175.3 | To modify the special permit to authorize an alternative to marking the necks of cylinders. (modes 1, 2, 3, 4).
14574-M | KMG ELECTRONIC CHEMICALS, INC | 180.407(c), 180.407(e), 180.407(f) | To modify the special permit to authorize an additional cargo tank wagon. (mode 1).
16011-M | AMERICASE, LLC | 173.185(f), 172.500, 172.600, 172.700(a), 172.200, 172.400, 172.300 | To clarify that suspected damaged, defective or recalled lithium batteries can be transported according to the permit. (modes 1, 2, 3).
20661-M | SAFT AMERICA INC | 172.400, 172.300, 173.301(g), 173.302a(a)(1), 173.185(b) | To modify the special permit to authorize the use of batteries not manufactured by Saft in the battery assemblies, and an increase in the maximum rated energy capacity permitted for the containerized battery assembly, that references to the UN Test Manual be updated to take account of the January 1, 2019, effective date of Amendment 1 to the Sixth Revised edition under international regulations. (modes 1, 3).
20689-M | DEPARTMENT OF DEFENSE (MILITARY SURFACE DEPLOYMENT & DISTRIBUTION COMMAND) | 171.2(k) | To modify the special permit that was issued on an emergency basis and make it permanent. (modes 1, 3).

[FR Doc. 2018-24298 Filed 11-6-18; 8:45 am]

BILLING CODE 4909-60-P